DEPARTMENT OF HEALTH AND HUMAN SERVICES

National Institutes of Health

Center for Scientific Review; Amended Notice of Meeting

Notice is hereby given of a change in the meeting of the Center for Scientific Review Special Emphasis Panel, January 10, 2011, 8 a.m. to January 11, 2011, 5 p.m., National Institutes of Health, 6701 Rockledge Drive, Bethesda, MD 20892 which was published in the Federal Register on December 22, 2010, 75 FR 80508.

The starting time of the meeting on January 10, 2011 has been changed to 11 a.m. until adjournment on January 11, 2011. The meeting is closed to the public.

Dated: January 4, 2011.
Anna P. Snouffer,
Deputy Director, Office of Federal Advisory Committee Policy.

[FR Doc. 2011-255 Filed 1-7-11; 8:45 am]

BILLING CODE 4140-01-P